DEPARTMENT OF ENERGY

Federal Energy Regulatory Commission

[Project No. 13330-000]

City of Quincy, Illinois; Notice of Competing Preliminary Permit Application Accepted for Filing and Soliciting Comments and Motions To Intervene

February 10, 2009.

On November 12, 2009, the City of Quincy, Illinois filed an application, pursuant to section 4(f) of the Federal Power Act (FPA), proposing to study the feasibility of the Mississippi River Lock & Dam 25 Project to be located on the Mississippi River in Calhoun County, Illinois and Lincoln County, Missouri. The proposed project would utilize the existing U.S. Army Corps of Engineers Lock & Dam 25.

The proposed project would consist of: (1) A powerhouse containing 30 turbine/generator units with a total installed capacity of 15 MW; (2) a 3.1 or 6.8 mile long, 34.5 kV transmission line and (3) appurtenant facilities. The annual production would be 82.1 GWh, which would be sold to a local utility.

Applicant Contact: Kenneth Cantrell, Director of Administrative Services, 730 Maine Street, Quincy, IL 62301 (217) 228-4500

FERC Contact: Steven Sachs (202) 502-8666

Competing Application: This application competes with Project No. 13320-000 filed November 3, 2008. Competing applications must be filed on or before April 6, 2009.

Deadline for filing comments, motions to intervene: 60 days from the issuance of this notice. Comments, motions to intervene, notices of intent and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” ling of the Commission's Web site at http://www.ferc.gov/docs-filing/elibrary.asp. Enter the docket number (P-13330) in the docket number field to access the document. For assistance, call toll-free 1-866-208-3372.

Kimberly D. Bose,
Secretary.

[FR Doc. E9-3341 Filed 2-13-09; 8:45 am]

BILLING CODE 6717-01-P